FEDERAL COMMUNICATIONS COMMISSION

Notice of Public Information Collection(s) Being Submitted for Review to the Office of Management and Budget

October 19, 2006.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before November 24, 2006. If you anticipate that you will be submitting PRA comments, but find it difficult to do so within the period of time allowed by this notice, you should advise the contact listed below as soon as possible.

ADDRESSES: Direct all Paperwork Reduction Act (PRA) comments to Judith B. Herman, Federal Communications Commission, Room 1-B441, 445 12th Street, SW., Washington, DC 20554 or via the Internet to PRA@fcc.gov. If you would like to obtain or view a copy of this information collection, you may do so by visiting the FCC PRA Web page at: http://www.fcc.gov/omd/pra.

FOR FURTHER INFORMATION CONTACT: For additional information or copies of the information collection(s), send an e-mail to PRA@fcc.gov or contact Judith B. Herman at 202-418-0214.

SUPPLEMENTARY INFORMATION: OMB Control No.: 3060-XXXX.

Title: Surrenders of Authorizations for International Carrier, Space Station and Earth Station Licensees.

Form No.: N/A.

Type of Review: New collection.

Respondents: Business or other for-profit.

Number of Respondents: 306.

Estimated Time per Response: 1 hour.

Frequency of Response: On occasion reporting requirement.

Total Annual Burden: 306 hours.

Total Annual Cost: N/A.

Privacy Act Impact Assessment: N/A.

Needs and Uses: This collection will be submitted as a new collection to the Office of Management and Budget (OMB) in order to obtain the full three year clearance. The Federal Communications Commission (“Commission”) is requesting that the Office of Management and Budget (OMB) approve the establishment of a new collection for surrenders of authorization for international carriers (214 authorizations), space stations and earth stations. A surrender of authorization is the licensee's voluntary cancellation of a license (or authorization) to provide international telecommunications services, such as discontinuing operation of a space station.

This new collection is being initiated as a result of the Commission's release of Public Notice (DA 06-569) on March 15, 2006 titled, “International Bureau Announces New and Improved Filing Modules Within Its MyIBFS Electronic Filing System: Surrender of Authorization and Improved Space Station Milestone Filing.” The Public Notice announced the International Bureau's launching of an E-filing module for surrendering authorizations and an improved milestone filing module for satellite space stations within its MyIBFS consolidated licensing and electronic filing system. (Note: The OMB approved the electronic filing of milestones under OMB Control No. 3060-1007). Additionally, the Commission is requesting the OMB's approval of mandatory electronic filing of surrenders of authorizations that do not fall under Part 25 of the Commission's rules. Currently, the surrender module is available to licensees in MyIBFS who are not required to comply with Part 25 on a voluntary basis. (Note: The OMB approved electronic filing of all Part 25-related applications and associated documents under OMB Control No. 3060-0678).

Without this collection of information, licensees would be required to submit surrenders of authorizations to the Commission by letter which is more time consuming than submitting such requests to the Commission electronically. In addition, Commission staff would spend an extensive amount of time processing surrenders of authorizations received by letter. This new collection of information saves time (and burden) for both licensees and Commission staff since they are received in MyIBFS electronically and include only the information that is essential to process the request(s) in a timely manner. Furthermore, the E-filing module expedites the Commission staff's announcement of surrenders of authorizations via Public Notice.

OMB Control No.: 3060-0775.

Title: Section 64.1903, Obligations of All Incumbent Local Exchange Carriers (LECs).

Form No.: N/A.

Type of Review: Extension of a currently approved collection.

Respondents: Business or other for-profit.

Number of Respondents: 10.

Estimated Time per Response: 6,056 hours.

Frequency of Response: Recordkeeping requirement.

Total Annual Burden: 60,560 hours.

Total Annual Cost: $1,215,000.

Privacy Act Impact Assessment: N/A.

Needs and Uses: This collection will be submitted as an extension of a currently approved collection to the Office of Management and Budget (OMB) in order to obtain the full three year clearance.

In CC Docket Nos. 96-149 and 96-61, the Commission imposed recordkeeping requirements on independent local exchange carriers (LECs). Independent LECs wishing to offer international, interexchange services must comply with the separate affiliate requirements of the Competitive Carrier Fifth Report and Order in order to do so. One of these requirements is that the independent LEC's international, interexchange affiliate must maintain books of account separate from such LEC's local exchange and other activities. This regulation does not require that the affiliate maintain books of account that comply with the Commission's Part 32 rules; rather, it refers to the fact that as a separate legal entity, the international, interexchange affiliate must maintain its own books of accounts in the ordinary course of its business.

This recordkeeping requirement is used by Commission staff to ensure that independent LECs providing international, interexchange services through a separate affiliate are in compliance with the Communications Act of 1934, as amended, and with Commission policies and regulations.

Federal Communications Commission.
Marlene H. Dortch,
Secretary.

[FR Doc. E6-17869 Filed 10-24-06; 8:45 am]

BILLING CODE 6712-01-P